NATIONAL SCIENCE FOUNDATION

Special Emphasis Panel in Physics; Notice of Meeting

In accordance with the Federal Advisory Committee Act (Pub. L. 92-463, as amended), the National Science Foundation announces the following meeting:

Name: Special Emphasis Panel in Physics (1208).

Date and Time: February 1-2, 2001; 8 a.m.-5 p.m.

Place: National Science Foundation, 4201 Wilson Blvd., Room 370, Arlington, VA.

Type of Meeting: Closed.

Contact Person: Dr. C. Denise Caldwell, 4201 Wilson Boulevard, Room 1015, Arlington, VA 22230. Telephone: (703) 292-7371.

Purpose of Meeting: To provide advice and recommendations concerning proposals submitted to the NSF for financial support.

Agenda: To review and evaluate Nanoscale Science and Engineering proposals as part of the evaluation process for funding.

Reason for Closing: The proposals being reviewed include information of a proprietary or confidential nature, including technical information; information on personnel and proprietary data for present and future subcontracts. These matters are exempt under 5 U.S.C. 552b(c), (4) and (6) of the Government in the Sunshine Act.

Dated: January 8, 2001.
Karen J. York,
Committee Management Officer.

[FR Doc. 01-874 Filed 1-10-01; 8:45 am]

BILLING CODE 7555-01-M